DEPARTMENT OF TRANSPORTATION

Federal Aviation Administration

14 CFR Part 73

[Docket No. FAA-2009-0700; Airspace Docket No. 09-AWP-4]

RIN 2120-AA66

Modification of Restricted Areas and Other Special Use Airspace; Fallon, NV

AGENCY: Federal Aviation Administration (FAA), DOT.

ACTION: Final rule.

SUMMARY: This action amends the time of designation and using agency of nine restricted areas located in the vicinity of the Fallon Naval Air Station (NAS), Fallon, NV, as part of a Department of the Navy initiative to standardize the operating hours throughout the Fallon Airspace Complex. The times of use are being expanded to meet the critical need of the Navy for additional nighttime training, and the using agency changes are administrative in accordance with a Navy realignment of functions. Additionally, this action modifies the times of use of the four military operation areas (MOAs) in the Fallon Airspace Complex. Unlike restricted areas, which are designated under 14 CFR part 73, MOAs are not rulemaking airspace actions. The MOA changes described here were published in the National Flight Data Digest (NFDD). The Navy requested these airspace changes to provide additional night training time to meet combat readiness requirements currently being carried out in accordance with 14 CFR 99.7.

DATES: Effective Date: 0901 UTC, December 17, 2009.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On September July 15, 2009, the FAA published in the Federal Register a notice of proposed rulemaking to modify Restricted Areas and other Special Use Airspace; Fallon, NV (74 FR 47150). Interested parties were invited to participate in this rulemaking effort by submitting written comments on the proposal. No comments were received.

Section 73.48 of 14 CFR part 73 was republished in FAA Order 7400.8R, dated February 5, 2009.

The Fallon Airspace Complex consists of nine restricted areas and four MOAs in the vicinity of the Fallon NAS, NV. Restricted areas are regulatory airspace designations, under Title 14 Code of Federal Regulations (14 CFR) part 73, which are established to confine or segregate activities considered hazardous to non-participating aircraft. A MOA is a non-rulemaking type of special use airspace (SUA) established to separate or segregate certain non-hazardous military flight activities from aircraft operating in accordance with instrument flight rules (IFR), and to identify for visual flight rules (VFR) pilots where those activities are conducted. IFR aircraft may be routed through an active MOA only when air traffic control can provide approved separation from the MOA activity. VFR pilots are not restricted from flying in an active MOA, but are advised to exercise caution while doing so.

Unlike restricted areas, which are designated through rulemaking procedures, MOAs are non-rulemaking airspace areas that are established administratively and published in the NFDD. Normally, MOA proposals are not published in a NPRM, but instead, are advertised for public comment through a nonrule circular that is distributed by an FAA Service Center office to aviation interests in the affected area. However, when a non-rulemaking action is connected to a rulemaking action, FAA procedures allow for the non-rulemaking proposal to be included in the NPRM. In such cases, the NPRM replaces the nonrule circularization requirement. Because the MOAs are an integral part of the Fallon Airspace Complex, they are being included in this Rule.

The SUA changes are described in the following sections.

MOA Changes:

Churchill Low MOA, NV

Times of use. 0715 to 2245 Monday through Friday and 0800 to 1800 Saturday; other times by NOTAM.

Churchill High MOA, NV

Times of use. 0715 to 2245 Monday through Friday and 0800 to 1800 Saturday; other times by NOTAM.

Ranch High MOA, NV

Times of use. 0715 to 2245 Monday through Friday and 0800 to 1800 Saturday; other times by NOTAM.

Ranch MOA, NV

Times of use. 0715 to 2245 Monday through Friday and 0800 to 1800 Saturday; other times by NOTAM.

The Rule

The FAA is amending to 14 CFR part 73 to modify the designated times of use to restricted areas R-4803, Fallon; R-4804A & B, Twin Peaks; R-4810, Desert Mountain; R-4812, Sand Springs; R-4813A & B, Carson Sink; and R-4816 North & South, Dixie Valley, NV. Specifically, the FAA is changing the current wording to include the phrase “other times by NOTAM”. This will allow the Navy to train between 2330 hours and 0715 hours local to meet their training requirements. The Navy is currently meeting these night training requirements in accordance with 14 CFR 99.7, Special Security Instructions. This action also reflects the using agency name change to USN, Naval Strike and Air Warfare Center, Fallon, NV.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it modifies restricted area airspace at Fallon NAS, Fallon, NV.

Environmental Review

The FAA has determined that this action qualifies for categorical exclusion under the National Environmental Policy Act in accordance with, FAA Order 1050.1E, Environmental Impacts: Policies and Procedures, paragraph 307e. This airspace action is not expected to cause any potentially significant environmental impacts, and no extraordinary circumstances exist that warrant preparation of an environmental assessment.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.48 [Amended]

2. § 73.48 is amended as follows:

* * * * *

R-4803 Fallon, NV [Amended]

* * * * *

By removing the current times of designation and using agency and substituting the following:

Time of designation. 0715 to 2330 local time daily; other times by NOTAM.

Using agency. USN, Naval Strike and Air Warfare Center, Fallon, NV.

R-4804A Twin Peaks, NV [Amended]

* * * * *

By removing the current times of designation and using agency and substituting the following:

Time of designation. 0715 to 2330 local time daily; other times by NOTAM.

Using agency. USN, Naval Strike and Air Warfare Center, Fallon, NV.

R-4804B Twin Peaks, NV [Amended]

* * * * *

By removing the current times of designation and using agency and substituting the following:

Time of designation. Intermittent 0715 to 2330 local time daily; other times by NOTAM.

Using agency. USN, Naval Strike and Air Warfare Center, Fallon, NV.

* * * * *

R-4810 Desert Mountains, NV [Amended]

* * * * *

By removing the current times of designation and using agency and substituting the following:

Time of designation. 0715 to 2330 local time daily; other times by NOTAM

Using agency. USN, Naval Strike and Air Warfare Center, Fallon, NV.

* * * * *

R-4812 Sand Springs, NV [Amended]

By removing the current times of designation and using agency and substituting the following:

Time of designation. 0715 to 2330 local time daily; other times by NOTAM

Using agency. USN, Naval Strike and Air Warfare Center, Fallon, NV.

R-4813A Carson Sink, NV [Amended]

* * * * *

By removing the current times of designation and using agency and substituting the following:

Time of designation. 0715 to 2330 local time daily; other times by NOTAM

Using agency. USN, Naval Strike and Air Warfare Center, Fallon, NV.

R-4813B Carson Sink, NV [Amended]

* * * * *

By removing the current times of designation and using agency and substituting the following:

Time of designation. Intermittent 0715 to 2330 local time daily; other times by NOTAM.

Using agency. USN, Naval Strike and Air Warfare Center, Fallon, NV.

R-4816N Dixie Valley, NV [Amended]

* * * * *

By removing the current times of designation and using agency and substituting the following:

Time of designation. 0715 to 2330 local time daily; other times by NOTAM

Using agency. USN, Naval Strike and Air Warfare Center, Fallon, NV.

R-4816S Dixie Valley, NV [Amended]

* * * * *

By removing the current times of designation and using agency and substituting the following:

Time of designation. 0715 to 2330 local time daily; other times by NOTAM

Using agency. USN, Naval Strike and Air Warfare Center, Fallon, NV.

* * * * *

Issued in Washington, DC, on October 14, 2009.
Kelly J. Neubecker,
Acting Manager, Airspace and Rules Group.

[FR Doc. E9-25077 Filed 10-19-09; 8:45 am]

BILLING CODE P